DEPARTMENT OF ENERGY

Federal Energy Regulatory Commission

[Docket No. CP19-86-000]

Notice of Request Under Blanket Authorization; Spire Storage West, LLC

Take notice that on February 13, 2019, Spire Storage West LLC (Spire Storage), 3773 Richmond Avenue, Suite 300, Houston, Texas 77046, filed an application under sections 157.205, 157.208 and 157.213 and Pursuant to 18 CFR 157.205, 157.208 and 157.213(b) and the blanket certificate issued to Spire Storage in Docket No. CP11-24-000, Spire Storage requests authorization Pursuant to 18 CFR 157.205, 157.208 and 157.213(b) and the blanket certificate granted in Docket No. CP11-24-000. to construct the Rock Pipeline, consisting of 10.1 miles of dual 20-inch pipeline, a new pipeline interconnection and appurtenant facilities at its natural gas storage facilities in Uinta County, Wyoming.

Spire Storage states that the Rock Pipeline will allow Spire Storage to make enhanced storage service options available to its customers. The proposed pipeline and measurement facilities will provide Spire Storage's two storage facilities access to a new high capacity bi-directional interconnect with Kern River Gas Transmission Company's mainline, will establish a robust link between the two storage facilities and will afford enhanced access to interconnections with other interstate natural gas pipelines.

The filing may also be viewed on the web at http://www.ferc.gov using the eLibrary link. Enter the docket number excluding the last three digits in the docket number field to access the document. For assistance, contact FERC at FERCOnlineSupport@ferc.gov or call toll-free, (866) 208-3676 or TTY, (202) 502-8659.

Questions regarding this application should be directed to James F. Bowe, Jr., King & Spalding LLP, 1700 Pennsylvania Avenue NW, Suite 200, Washington, DC 20006, 202-626-9601 (phone) 202-626-3737 (fax), jbowe@kslaw.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules, 18 CFR 157.9, within 90 days of this Notice the Commission staff will either: complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenter will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and 5 copies of the protest or intervention to the Federal Energy Regulatory Commission, 888 First Street NE, Washington, DC 20426.

Comment Date: 5:00 p.m. Eastern Time on April 26, 2019.

Dated: February 25, 2019.
Kimberly D. Bose,
Secretary.

[FR Doc. 2019-03765 Filed 3-1-19; 8:45 am]

BILLING CODE 6717-01-P